SECURITIES AND EXCHANGE COMMISSION

Issuer Delisting; Notice of Application To Withdraw From Listing and Registration; (Home Security International, Inc. Common Stock, par value $0.001 per share) File No. 1-14502

May 11, 2001.

Home Security International, Inc., a Delaware corporation (“Issuer”), has filed an application with the Securities and Exchange Commission (“Commission”), pursuant to Section 12(d) of the Securities Exchange Act of 1934 (“Act”) ¹ and Rule 12d2-2(d) thereunder,² to withdraw its Common Stock, $0.001 par value (“Security”), from listing and registration on the American Stock Exchange (“Amex”).

¹ 15 U.S.C. 78l(d).

² 17 CFR 240.12d2-2(d).

The Issuer started in its application that it has met the requirements of Amex Rule 18 by complying with all applicable laws in effect in the State of Delaware, in which it is incorporated, and with the Amex's rules governing an issuer's voluntary withdrawal of a security from listing and registration.

In making the decision to withdraw the Security from listing on the Exchange, the Issuer considered:

(1) The Issuer's non-compliance with the Amex maintenance standards concerning the price per share of the Issuer's Security ($0.12 as of May 1, 2001);

(2) The Issuer's non-compliance with the Amex maintenance standards concerning the number of registered shareholders of the Issuer's Security (21 as of October 23, 2000);

(3) The volume of trading of the Security is approximately nine percent (9%) of the aggregate trading volume in the Common Stock since 1997;

(4) The resignation of the Issuer's independent auditor;

(5) The percentage of the Issuer's Security owned by affiliates of the Issuer; and

(6) The costs associated with maintaining the Issuer's listing on the Amex in light of the Issuer's current financial position.

The Issuer represent that the Security has been listed in the Pink Sheets since late April 2001. The Issuer also represents that it is investigating whether or not to file a Form 15 with the Commission.

Any interested person may, on or before June 1, 2001, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issuer an order granting the application after the date mentioned above, unless the Commission determines to order a hearing on the matter.

For the Commission, by the Division of Market Regulation, pursuant to delegated authority.³
³ 17 CFR 200.30-3(a)(1).
Jonathan G. Katz,
Secretary.

[FR Doc. 01-12437 Filed 5-16-01; 8:45 am]

BILLING CODE 8010-01-M